DEPARTMENT OF LABOR

Employment and Training Administration

[NAFTA—05245]

Eagle Picher Industries, Construction Equipment Division, Now Known as Noble Construction Equipment, Inc., Lubbock, Texas; Amended Certification Regarding Eligibility To Apply for NAFTA-Transitional Adjustment Assistance

In accordance with section 250(a), Subchapter D, Chapter 2, Title II, of the Trade Act of 1974, as amended (19 U.S.C. 2273), the Department of Labor issued a Certification for NAFTA Transitional Adjustment Assistance on January 23, 2002, applicable to workers of Eagle Picher Industries, Construction Equipment Division, Lubbock, Texas. The notice was published in the Federal Register on February 5, 2002 (67 FR 5294).

At the request of the State agency, the Department reviewed the revised determination for workers of the subject firm.

Information provided by the State and the company shows that Noble International purchased Eagle Picher Industries, Construction Equipment Division in December 2001 and is now known as Noble Construction Equipment, Inc.

Information also shows that workers separated from employment at the subject firm, had their wages reported under a separate unemployment insurance (UI) tax account for Noble Construction Equipment, Inc.

Accordingly, the Department is amending the certification to properly reflect this matter.

The intent of the Department's certification is to include all workers of Eagle Picher Industries, Construction Equipment Division, now known as Noble Construction Equipment, Inc. who were adversely affected by the shift in the production of construction equipment to Mexico.

The amended notice applicable to NAFTA-05245 is hereby issued as follows:

All workers of Eagle Picher Industries, Construction Equipment Division, now known as Noble Construction Equipment, Inc., Lubbock, Texas, who became totally or partially separated from employment on or after August 22, 2000, through January 23, 2004, are eligible to apply for NAFTA-TAA under section 250 of the Trade Act of 1974.

Signed in Washington, DC, this 16th day of December 2002.
Linda G. Poole,
Certifying Officer, Division of Trade Adjustment Assistance.

[FR Doc. 03-411 Filed 1-8-03; 8:45 am]

BILLING CODE 4510-30-P